DEPARTMENT OF HOMELAND SECURITY

Coast Guard

[Docket No. USCG-2013-0286]

Availability of Application for the Proposal To Replace the Existing Movable I-5 Bridge Across the Columbia River With a Fixed Multi-Use Bridge Which Will Accommodate Vehicular, Light Rail, Pedestrian and Bicycle Traffic and Will Be Called the Columbia River Crossing; Correction

AGENCY: Coast Guard, DHS.

ACTION: Notice of availability and request for comments; correction.

SUMMARY: The Coast Guard published a document in the Federal Register on May 6, 2013, concerning a request for comments on the availability of bridge permit application materials for the Columbia River Crossing. The document contained an incorrect phone number for the Columbia River Crossing Project Manager.

DATES: This correction is effective June 17, 2013. The comment period remains open through June 20, 2013.

ADDRESSES: You may submit comments identified by docket number USCG-2013-0286 using any one of the following methods:

(1) Online: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice or the public meetings, call or email Mr. Gary Greene, CRC Project Officer, Thirteenth Coast Guard District, U.S. Coast Guard; telephone 206-220-7029, Gary.f.greene@uscg.mil. If you have questions on viewing or submitting material to the docket, call Barbara Hairston, Program Manager, Docket Operations, telephone 202-366-9826.

SUPPLEMENTARY INFORMATION:

Public Participation and Request for Comments

We encourage you to submit comments and related material on the proposed CRC Bridge. All comments received, including comments received at the public meetings, will be posted, without change, to http://www.regulations.gov and will include any personal information you have provided.

Submitting comments: If you submit a comment, please include the docket number for this notice (USCG-2013-0286) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, insert (USCG-2013-0286) in the Search box, look for this notice in the docket and click the Comment button next to it. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments: To view the comments go to http://www.regulations.gov, insert (USCG-2013-0286) in the Search box, then click on the “Open Docket Folder” option. If you do not have access to the internet, you may view the docket by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Copies of all written communications from the public meetings will be available for review by interested persons after the meeting on the online docket, USCG-2013-0286 via http://www.regulations.gov.

Transcripts of the meetings will be available for public review approximately 30 days after the meetings. All comments will be made part of the public docket.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Correction

In the May 6, 2013, edition of the Federal Register, the Coast Guard published a notice titled, “Availability of Application for the proposal to replace the existing movable I-5 bridge across the Columbia River with a fixed multi-use bridge which will accommodate vehicular, light rail, pedestrian and bicycle traffic and will be called the Columbia River Crossing.” (78 FR 26380). Mistakenly, the phone number for the person listed in the FOR FURTHER INFORMATION CONTACT section was incorrect. The correct phone number for Gary Greene, Columbia River Crossing Project Manager, is 206-220-7029.

This notice is issued under authority of 33 U.S.C. 525 and 401(1), 33 CFR 115.60, and DHS Delegation 0170.1(67).

Dated: June 11, 2013.
Brian L. Dunn,
Administrator, Office of Bridge Programs U.S. Coast Guard.

[FR Doc. 2013-14245 Filed 6-14-13; 8:45 am]

BILLING CODE 9110-04-P